DEPARTMENT OF HOUSING AND URBAN DEVELOPMENT

[Docket No. FR-5124-N-04]

Financial Standards for Housing Agency-Owned Insurance Entities

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: April 16, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Financial Standards for Housing Agency-Owned Insurance Entities.

OMB Control Number: 2577-0186.

Description of the Need for the Information and Proposed Use: Collection of this information is required by the HUD Appropriations Act for FY 1992, Public Law 102.139, 105 Stat. 736 (approved October 28, 1991). The Act provided that public housing agencies (PHAs) could purchase insurance coverage without regard to competitive selection procedures, if the insurance was purchased from a nonprofit insurance entity owned and controlled by PHAs approved by HUD, in accordance with standards established by regulation. A PHA-owned insurance entity selected by a PHA to provide coverage must submit a certification to HUD, stating that the entity management and underwriting staff have certain levels of experience. For initial approvals, the entity must also submit proper organizational documentation. The nonprofit entity must submit copies of audits every year, actuarial reviews every year, and management reviews every three years.

Agency Form Number: N/A.

Members of Affected Public: Public Housing Agencies.

Estimation of the Total Number of Hours Needed to Prepare the Information Collection Including Number of Respondents: There are 22 audit respondents annually at eight hours per response. There are approximately 22 claims responses over a three-year period, for an average of seven responses per year at two hours per response. Average response time per respondent is 6.55 hours.

Status of the Proposed Information Collection: Extension of currently approved collection.

Authority: Section 3506 of the Paperwork Reduction Act of 1995, 44 U.S.C. Chapter 35, as amended.

Dated: February 7, 2007.
Bessy Kong,
Deputy Assistant Secretary, Policy, Program and Legislative Initiatives.

[FR Doc. E7-2572 Filed 2-13-07; 8:45 am]

BILLING CODE 4210-67-P